DEPARTMENT OF ENERGY

Federal Energy Regulatory Commission

Combined Notice of Filings #1

Take notice that the Commission received the following electric corporate filings:

Docket Numbers: EC15-19-000.

Applicants: Seiling Wind, LLC, Seiling Wind II, LLC, Seiling Wind Interconnection Services, LLC, Palo Duro Wind Energy, LLC, Palo Duro Wind Interconnection Services.

Description: Application for Authorization Under Section 203 of the Federal Power Act and Request for Expedited Action of Seiling Wind, LLC, et al.

Filed Date: 10/31/14.

Accession Number: 20141031-5329.

Comments Due: 5 p.m. ET 11/21/14.

Docket Numbers: EC15-20-000.

Applicants: ALLETE Clean Energy, Inc.

Description: Joint Application Under Section 203 of the Federal Power Act of Storm Lake Power Partners and ALLETE Clean Energy, Inc.

Filed Date: 10/31/14.

Accession Number: 20141031-5332.

Comments Due: 5 p.m. ET 11/21/14.

Docket Numbers: EC15-21-000.

Applicants: Rising Tree Wind Farm LLC, Rising Tree Wind Farm II LLC.

Description: Application for Authorization for Disposition of Jurisdictional Facilities and Request for Expedited Action of Rising Tree Wind Farm LLC, et. al.

Filed Date: 10/31/14.

Accession Number: 20141031-5339.

Comments Due: 5 p.m. ET 11/21/14.

Take notice that the Commission received the following electric rate filings:

Docket Numbers: ER11-4633-002.

Applicants: Madison Gas and Electric Company.

Description: Madison Gas & Electric Company submits a notice of non-material change in status regarding the joint venture and potential acquisition of interest in generation facilities.

Filed Date: 10/27/14.

Accession Number: 20141030-0001.

Comments Due: 5 p.m. ET 11/17/14.

Docket Numbers: ER14-2419-002.

Applicants: ISO New England Inc.

Description: Compliance filing per 35: Two-Settlement Market Design Compliance Filing to be effective 6/1/2018.

Filed Date: 11/3/14.

Accession Number: 20141103-5032.

Comments Due: 5 p.m. ET 11/24/14.

Docket Numbers: ER14-2708-002.

Applicants: Seiling Wind, LLC.

Description: Notice of Change in Status of Seiling Wind, LLC.

Filed Date: 10/31/14.

Accession Number: 20141031-5328.

Comments Due: 5 p.m. ET 11/21/14.

Docket Numbers: ER15-286-000.

Applicants: South Eastern Electric Development Corp.

Description: § 205(d) rate filing per 35.13(a)(2)(iii): Revised Market Based Rate Tariff to be effective 11/1/2014.

Filed Date: 10/31/14.

Accession Number: 20141031-5251.

Comments Due: 5 p.m. ET 11/21/14.

Docket Numbers: ER15-287-000.

Applicants: South Eastern Generating Corp.

Description: § 205(d) rate filing per 35.13(a)(2)(iii): Revised Market Based Rate Tariff to be effective 11/1/2014.

Filed Date: 10/31/14.

Accession Number: 20141031-5252.

Comments Due: 5 p.m. ET 11/21/14.

Docket Numbers: ER15-288-000.

Applicants: Utility Contract Funding II, L.L.C.

Description: § 205(d) rate filing per 35.13(a)(2)(iii): Revised MBR Tariff to be effective 11/1/2014.

Filed Date: 10/31/14.

Accession Number: 20141031-5253.

Comments Due: 5 p.m. ET 11/21/14.

Docket Numbers: ER15-289-000.

Applicants: TAQA Gen X LLC.

Description: § 205(d) rate filing per 35.13(a)(2)(iii): Revised MBR Tariff to be effective 11/1/2014.

Filed Date: 10/31/14.

Accession Number: 20141031-5254.

Comments Due: 5 p.m. ET 11/21/14.

Docket Numbers: ER15-290-000.

Applicants: NorthWestern Corporation.

Description: § 205(d) rate filing per 35.13(a)(2)(iii): SA 605 Third Revised—NITSA with Bonneville Power Administration to be effective 1/1/2015.

Filed Date: 10/31/14.

Accession Number: 20141031-5255.

Comments Due: 5 p.m. ET 11/21/14.

Docket Numbers: ER15-291-000.

Applicants: California Independent System Operator Corporation.

Description: § 205(d) rate filing per 35.13(a)(2)(iii): 2014-10-31_CopperMountain4_UFA to be effective 10/29/2014.

Filed Date: 10/31/14.

Accession Number: 20141031-5256.

Comments Due: 5 p.m. ET 11/21/14.

Docket Numbers: ER15-292-000.

Applicants: NaturEner Glacier Wind Energy 2, LLC.

Description: § 205(d) rate filing per 35.13(a)(2)(iii): Market Based Rate Tariff to be effective 11/1/2014.

Filed Date: 10/31/14.

Accession Number: 20141031-5267.

Comments Due: 5 p.m. ET 11/21/14.

Docket Numbers: ER15-293-000.

Applicants: NaturEner Montana Wind Energy, LLC.

Description: § 205(d) rate filing per 35.13(a)(2)(iii): Market Based Rate Tariff to be effective 11/1/2014.

Filed Date: 10/31/14.

Accession Number: 20141031-5268.

Comments Due: 5 p.m. ET 11/21/14.

Docket Numbers: ER15-294-000.

Applicants: Puget Sound Energy, Inc.

Description: § 205(d) rate filing per 35.13(a)(2)(iii): Air Liquide NITSA SA No 693 to be effective 10/1/2014.

Filed Date: 10/31/14.

Accession Number: 20141031-5269.

Comments Due: 5 p.m. ET 11/21/14.

Docket Numbers: ER15-295-000.

Applicants: Black Hills/Colorado Electric Utility Company, LP.

Description: § 205(d) rate filing per 35.13(a)(2)(iii): Joint Dispatch Transmission Service to be effective 1/1/2015.

Filed Date: 10/31/14.

Accession Number: 20141031-5270.

Comments Due: 5 p.m. ET 11/21/14.

Docket Numbers: ER15-296-000.

Applicants: Puget Sound Energy, Inc.

Description: § 205(d) rate filing per 35.13(a)(2)(iii): BELM CS Orchard NITSA No 709 to be effective 10/1/2014.

Filed Date: 10/31/14.

Accession Number: 20141031-5271.

Comments Due: 5 p.m. ET 11/21/14.

Docket Numbers: ER15-297-000.

Applicants: LDVF1 TEP LLC.

Description: Initial rate filing per 35.12: Market Based Rate Filing to be effective 1/1/2015.

Filed Date: 10/31/14.

Accession Number: 20141031-5272.

Comments Due: 5 p.m. ET 11/21/14.

Docket Numbers: ER15-298-000.

Applicants: Puget Sound Energy, Inc.

Description: § 205(d) rate filing per 35.13(a)(2)(iii): BELM CS Roeder NITSA SA No 706 to be effective 10/1/2014.

Filed Date: 10/31/14.

Accession Number: 20141031-5273.

Comments Due: 5 p.m. ET 11/21/14.

Docket Numbers: ER15-299-000.

Applicants: Puget Sound Energy, Inc.

Description: § 205(d) rate filing per 35.13(a)(2)(iii): Boeing NITSA SA No 677 to be effective 10/1/2014.

Filed Date: 10/31/14.

Accession Number: 20141031-5274.

Comments Due: 5 p.m. ET 11/21/14.

Docket Numbers: ER15-300-000.

Applicants: Puget Sound Energy, Inc.

Description: § 205(d) rate filing per 35.13(a)(2)(iii): Intel NITSA SA No 688 to be effective 10/1/2014.

Filed Date: 10/31/14.

Accession Number: 20141031-5276.

Comments Due: 5 p.m. ET 11/21/14.

Docket Numbers: ER15-301-000.

Applicants: Puget Sound Energy, Inc.

Description: Initial rate filing per 35.12: Port of Seattle NITSA SA No 484 to be effective 10/1/2014.

Filed Date: 10/31/14.

Accession Number: 20141031-5277.

Comments Due: 5 p.m. ET 11/21/14.

Docket Numbers: ER15-302-000.

Applicants: Puget Sound Energy, Inc.

Description: § 205(d) rate filing per 35.13(a)(2)(iii): Tesoro NITSA SA No 703 to be effective 10/1/2014.

Filed Date: 10/31/14.

Accession Number: 20141031-5278.

Comments Due: 5 p.m. ET 11/21/14.

Docket Numbers: ER15-303-000.

Applicants: PJM Interconnection, L.L.C., American Transmission Systems, Incorporation.

Description: § 205(d) rate filing per 35.13(a)(2)(iii): ATSI submits revisions to OATT Att H-21, H-21A and H-21B to be effective 1/1/2015.

Filed Date: 10/31/14.

Accession Number: 20141031-5279.

Comments Due: 5 p.m. ET 11/21/14.

Docket Numbers: ER15-304-000.

Applicants: Power Contract Financing II, L.L.C.

Description: § 205(d) rate filing per 35.13(a)(2)(iii): Revised MBR Tariff to be effective 11/1/2014.

Filed Date: 10/31/14.

Accession Number: 20141031-5288.

Comments Due: 5 p.m. ET 11/21/14.

Docket Numbers: ER15-305-000.

Applicants: NaturEner Glacier Wind Energy 1, LLC.

Description: § 205(d) rate filing per 35.13(a)(2)(iii): Market Based Rate Tariff to be effective 11/1/2014.

Filed Date: 10/31/14.

Accession Number: 20141031-5292.

Comments Due: 5 p.m. ET 11/21/14.

Docket Numbers: ER15-306-000.

Applicants: NaturEner Power Watch, LLC.

Description: § 205(d) rate filing per 35.13(a)(2)(iii): MBR Tariff to be effective 11/1/2014.

Filed Date: 10/31/14.

Accession Number: 20141031-5294.

Comments Due: 5 p.m. ET 11/21/14.

Docket Numbers: ER15-307-000.

Applicants: Southwest Power Pool, Inc.

Description: § 205(d) rate filing per 35.13(a)(2)(iii): Revisions to Attachment J—Section III to be effective 1/1/2015.

Filed Date: 10/31/14.

Accession Number: 20141031-5295.

Comments Due: 5 p.m. ET 11/21/14.

Docket Numbers: ER15-308-000.

Applicants: NaturEner Rim Rock Wind Energy, LLC.

Description: § 205(d) rate filing per 35.13(a)(2)(iii): MBR Tariff to be effective 11/1/2014.

Filed Date: 10/31/14.

Accession Number: 20141031-5299.

Comments Due: 5 p.m. ET 11/21/14.

Docket Numbers: ER15-309-000.

Applicants: Idaho Power Company.

Description: § 205(d) rate filing per 35.13(a)(2)(iii): Amended BPA USBR NITSA Jan 2015 Filing to be effective 12/31/9998.

Filed Date: 10/31/14.

Accession Number: 20141031-5305.

Comments Due: 5 p.m. ET 11/21/14.

Docket Numbers: ER15-310-000.

Applicants: Ameren Transmission Company of Illinois.

Description: Request for Approval of Updated Depreciation Accrual Rates of Ameren Transmission Company of Illinois.

Filed Date: 10/31/14.

Accession Number: 20141031-5331.

Comments Due: 5 p.m. ET 11/21/14.

Docket Numbers: ER15-311-000.

Applicants: PacifiCorp.

Description: Notice of Termination of PacifiCorp-SMUD Rate Schedule No. 250.

Filed Date: 10/31/14.

Accession Number: 20141031-5338.

Comments Due: 5 p.m. ET 11/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2014.
Nathaniel J. Davis, Sr.,
Deputy Secretary.

[FR Doc. 2014-26755 Filed 11-12-14; 8:45 am]

BILLING CODE 6717-01-P